DEPARTMENT OF TRANSPORTATION

National Highway Traffic Safety Administration

[Docket No. NHTSA-2005-20274; Notice 1]

Workhorse Custom Chassis, Receipt of Petition for Decision of Inconsequential Noncompliance

Workhorse Custom Chassis (Workhorse) has determined that certain incomplete motor home chassis it produced in 2000 through 2004 do not comply with S3.1.4.1 of 49 CFR 571.102, Federal Motor Vehicle Safety Standard (FMVSS) No. 102, “Transmission shift lever sequence, starter interlock, and transmission braking effect.” Workhorse has filed an appropriate report pursuant to 49 CFR Part 573, “Defect and Noncompliance Reports.”

Pursuant to 49 U.S.C. 30118(d) and 30120(h), Workhorse has petitioned for an exemption from the notification and remedy requirements of 49 U.S.C. Chapter 301 on the basis that this noncompliance is inconsequential to motor vehicle safety.

This notice of receipt of Workhorse's petition is published under 49 U.S.C. 30118 and 30120 and does not represent any agency decision or other exercise of judgment concerning the merits of the petition.

Affected are a total of approximately 42,524 incomplete motor home chassis built between July 2000 and December 31, 2004. S3.1.4.1 of FMVSS No. 102 requires that

if the transmission shift lever sequence includes a park position, identification of shift lever positions * * * shall be displayed in view of the driver whenever any of the following conditions exist: (a) The ignition is in a position where the transmission can be shifted. (b) The transmission is not in park.

Workhorse describes its noncompliance as follows:

In these vehicles when the ignition key is in the “OFF” position, the selected gear position is not displayed. “OFF” is a position not displayed, but located between lock and run. The gear selector lever can be moved while the ignition switch is in “OFF.”

Workhorse believes that the noncompliance is inconsequential to motor vehicle safety and that no corrective action is warranted. Workhorse states that:

[T]he vehicles will be in compliance with FMVSS No. 102 during normal ignition activation and vehicle operation. Workhorse believes that the purpose of the rule is to provide the driver with transmission position information for the vehicle conditions where such information can reduce the likelihood of shifting errors. This occurs primarily when the engine is running, and Workhorse's PRNDL is always visible when the engine is running.

Should the shift lever be in any position other than park or neutral, the ignition will not start * * * Should the Workhorse vehicle be in neutral at the time the ignition is turned to start, the display will immediately come on and be visible to the driver.

There are a number of safeguards to preclude the driver from leaving the vehicle with the vehicle in a position other than in the park position. First, if the driver should attempt to remove the key, the driver will discover that the vehicle is not in park because the key may not be removed. * * * If the driver were to attempt to leave the vehicle without removing the key, the audible warning required by FMVSS No. 114 would immediately sound reminding the driver that the key is still in the vehicle.

Workhorse states that this situation is substantially the same as for two petitions which NHTSA granted, one from General Motors (58 FR 33296, June 16, 1993) and the second from Nissan Motors (64 FR 38701, June 19, 1999). Workhorse says, “In both of those cases, the PRNDL display would not be illuminated if the transmission was left in a position other than ‘park’ when the ignition key was turned to ‘OFF.’ ”

Workhorse states that it has no customer complaints or accident reports related to the noncompliance.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: April 1, 2005.

Authority: 49 U.S.C. 30118, 30120: delegations of authority at CFR 1.50 and 501.8.

Issued on: February 22, 2005.
Ronald L. Medford,
Senior Associate Administrator for Vehicle Safety.

[FR Doc. 05-3991 Filed 3-1-05; 8:45 am]

BILLING CODE 4910-59-P